INTERNATIONAL TRADE COMMISSION

[Inv. No. 337-TA-1271]

Notice of Institution of Investigation; Certain Silicon Photovoltaic Cells and Modules With Nanostructures, and Products Containing the Same

AGENCY: U.S. International Trade Commission.

ACTION: Notice.

SUMMARY: Notice is hereby given that a complaint was filed with the U.S. International Trade Commission on June 11, 2021, under section 337 of the Tariff Act of 1930, as amended, on behalf of Advanced Silicon Group Technologies, LLC of Lowell, Massachusetts. A first supplement was filed on June 17, 2021, and a second supplement was filed on July 6, 2021. The complaint, as supplemented, alleges violations of section 337 based upon the importation into the United States, the sale for importation, and the sale within the United States after importation of certain silicon photovoltaic cells and modules with nanostructures, and products containing the same by reason of infringement of certain claims of U.S. Patent No. 8,450,599 (“the '599 patent”); U.S. Patent No. 8,852,981 (“the '981 patent”); U.S. Patent No. 9,601,640 (“the '640 patent”); U.S. Patent No. 9,768,331 (“the '331 patent”); U.S. Patent No. 10,269,995 (“the '995 patent”); and U.S. Patent No. 10,692,971 (“the '971 patent”). The complaint further alleges that an industry in the United States exists or is in the process of being established as required by the applicable Federal Statute. The complainant requests that the Commission institute an investigation and, after the investigation, issue a limited exclusion order and cease and desist orders.

ADDRESSES: The complaint, except for any confidential information contained therein, may be viewed on the Commission's electronic docket (EDIS) at https://edis.usitc.gov. For help accessing EDIS, please email EDIS3Help@usitc.gov. Hearing impaired individuals are advised that information on this matter can be obtained by contacting the Commission's TDD terminal on (202) 205-1810. Persons with mobility impairments who will need special assistance in gaining access to the Commission should contact the Office of the Secretary at (202) 205-2000. General information concerning the Commission may also be obtained by accessing its internet server at https://www.usitc.gov.

FOR FURTHER INFORMATION CONTACT: Pathenia M. Proctor, The Office of Unfair Import Investigations, U.S. International Trade Commission, telephone (202) 205-2560.

SUPPLEMENTARY INFORMATION:

Authority: The authority for institution of this investigation is contained in section 337 of the Tariff Act of 1930, as amended, 19 U.S.C. 1337, and in section 210.10 of the Commission's Rules of Practice and Procedure, 19 CFR 210.10 (2021).

Scope of Investigation: Having considered the complaint, the U.S. International Trade Commission, on July 13, 2021, ordered that—

(1) Pursuant to subsection (b) of section 337 of the Tariff Act of 1930, as amended, an investigation be instituted to determine whether there is a violation of subsection (a)(1)(B) of section 337 in the importation into the United States, the sale for importation, or the sale within the United States after importation of certain products identified in paragraph (2) by reason of infringement of one or more of claims 15, 17, 23-25, and 27 of the '599 patent; claims 1, 2, 4, 13, 18, 23, 26, and 27 of the '981 patent; claims 1, 4, 11-14, and 16-18 of the '640 patent; claims 1, 2, and 10 of the '331 patent; claims 1, 2, and 7-11 of the '995 patent; and claims 1, 7, 8, 10, and 15 of the '971 patent, and whether an industry in the United States exists or is in the process of being established as required by subsection (a)(2) of section 337;

(2) Pursuant to section 210.10(b)(1) of the Commission's Rules of Practice and Procedure, 19 CFR 210.10(b)(1), the plain language description of the accused products or category of accused products, which defines the scope of the investigation, is “silicon photovoltaic cells and modules containing such cells . . . in which at least one surface of the silicon photovoltaic cell has nanostructures”;

(3) For the purpose of the investigation so instituted, the following are hereby named as parties upon which this notice of investigation shall be served:

(a) The complainant is:

Advanced Silicon Group Technologies, LLC, 600 Suffolk Street, Lowell, Massachusetts 01854

(b) The respondents are the following entities alleged to be in violation of section 337, and are the parties upon which the complaint is to be served:

Canadian Solar, Inc., 545 Speedvale Avenue West, Guelph, Ontario, Canada N1K 1E6

Canadian Solar International Limited, Unit 1520, 15/F, Tower 2, Grand Century Place, 193 Prince Edward Road West, MongKok, Kowloon, Hong Kong, People's Republic of China

Canadian Solar Manufacturing (Changshu) Co. Inc., No. 2 Changsheng Road, YangYuan, Xinzhuang Town, Changshu, Jiangsu 215562, People's Republic of China

Canadian Solar Manufacturing (Luoyang) Inc., 2 Yingzhou Road, Luolong Science Park, Luoyang, Henan Province, 471000, China

Canadian Solar Manufacturing (Thailand) Co. Ltd., 168/2 Moo 4, Rojana Industrial Estate, Si Racha, Chon Buri 20230, Kingdom of Thailand

Canadian Solar Manufacturing Vietnam Co. Ltd., D11, No. 5, Dong Tay Road, VSIP Hai Phong Urban, Industrial and Service Park, Duong Quan Commune, Thuy Nguyen District, Hai Phong City 04359, Socialist Republic of Vietnam

Canadian Solar Solutions, Inc., 545 Speedvale Avenue, Guelph, Ontario N1K 1E6, Canada

Canadian Solar Construction (USA) LLC, 3000 Oak Road, Suite 300, Walnut Creek, California 94597

Canadian Solar (USA) Inc., 3000 Oak Road, Suite 400, Walnut Creek, California 94597

Recurrent Energy Group, Inc., 123 Mission Street, Floor 18, San Francisco, California 94105

Recurrent Energy LLC, 3000 Oak Road, Suite 300, Walnut Creek, California 94597

Recurrent Energy SH Proco LLC, 3000 Oak Road, Suite 400, Walnut Creek, California 94597

Hanwha Q CELLS & Advanced Materials Corp., 86 Cheonggyecheon-ro, Jung-gu, Seoul, Republic of Korea 04541

Hanwha Q Cells GmbH, Sonnenallee 17-21 06766 Bitterfeld-Wolfen, Federal Republic of Germany

Hanwha Q Cells Malaysia Sdn. Bhd., Lot 1, Jalan CV 2, Selangor Cyber Valley, 63300 Cyberjaya, Selangor Malaysia

Hanwha Q Cells (Qidong) Co., Ltd., 888 Linyang Road, Qidong Jiangsu 226200, People's Republic of China

Hanwha Solutions Corporation, 24F, 86, Cheonggyecheon-ro, Jung-gu, Seoul, Republic of Korea 04541

Hanwha Energy USA Holdings Corp., (dba 174 Power Global Corporation), 300 Spectrum Center Dr., Irvine, California 92618

Hanwha Q Cell EPC USA LLC, 400 Spectrum Center Drive, Suite 1400, Irvine, California 92618 USA

Hanwha Q Cells America Inc., 400 Spectrum Center Drive, Suite 1400, Irvine, California 92618 USA

Hanwha Q Cells USA Corp., 300 Spectrum Center Drive, Suite 1250, Irvine, California 92618 USA

Hanwha Q Cells USA Inc., 300 Nexus Drive, Dalton, Georgia 30721

HQC Rock River Solar Holdings LLC, 300 Spectrum Center Drive, Suite 1250, Irvine, California 92618

HQC Rock River Solar Power Generation Station, LLC, 3753 US-51, Beloit, Wisconsin 53511

Boviet Solar Technology Co., Ltd., B5-B6, Song Khe-Industrial Zone, Noi Hoang District, Bac Giang Province 26115, Socialist Republic of Vietnam

Ningbo Boway Alloy Material Co., Ltd., No. 1777 Yinzhou Dadao Dong Duan, Ningbo City, Zhejiang Province 315137, People's Republic of China

Boviet Renewable Power LLC, 1740 Technology Drive, Suite 205, San Jose, California 95110

Boviet Solar USA Ltd., 2701 North 1st Street, Suite 550, San Jose, California 95131

(c) The Office of Unfair Import Investigations, U.S. International Trade Commission, 500 E Street SW, Suite 401, Washington, DC 20436; and

(4) For the investigation so instituted, the Chief Administrative Law Judge, U.S. International Trade Commission, shall designate the presiding Administrative Law Judge.

Responses to the complaint and the notice of investigation must be submitted by the named respondents in accordance with section 210.13 of the Commission's Rules of Practice and Procedure, 19 CFR 210.13. Pursuant to 19 CFR 201.16(e) and 210.13(a), as amended in 85 FR 15798 (March 19, 2020), such responses will be considered by the Commission if received not later than 20 days after the date of service by the complainants of the complaint and the notice of investigation. Extensions of time for submitting responses to the complaint and the notice of investigation will not be granted unless good cause therefor is shown.

Failure of a respondent to file a timely response to each allegation in the complaint and in this notice may be deemed to constitute a waiver of the right to appear and contest the allegations of the complaint and this notice, and to authorize the administrative law judge and the Commission, without further notice to the respondent, to find the facts to be as alleged in the complaint and this notice and to enter an initial determination and a final determination containing such findings, and may result in the issuance of an exclusion order or a cease and desist order or both directed against the respondent.

By order of the Commission.
Dated: July 14, 2021.
Katherine Hiner,
Secretary to the Commission.

[FR Doc. 2021-15325 Filed 7-19-21; 8:45 am]

BILLING CODE 7020-02-P